DEPARTMENT OF LABOR

Employment and Training Administration

[TA-W-55,352]

BIC Corporation, BIC Consumer Products Manufacturing Co., Inc., BIC USA, Inc., Milford, CT; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on September 9, 2004, applicable to workers of BIC Corporation, BIC Consumer Products Manufacturing Co., Inc., Milford, Connecticut. The notice was published in the Federal Register on October 8, 2004 (69 FR 60427).

At the request of the State agency, the Department reviewed the certification for workers of the subject firm. The workers are engaged in the production of stic pens and single blade shavers and are not separately identifiable by product line.

New information shows that that some workers separated from employment at the subject firm had their wages reported under a separate unemployment insurance (UI) tax account for BIC USA, Inc.

Accordingly, the Department is amending the certification to properly reflect this matter.

The intent of the Department's certification is to include all workers of BIC Corporation, BIC Consumer Products Manufacturing Co., Inc., BIC USA, Inc., Milford, Connecticut who was adversely affected by a shift in production to Mexico, South America and Europe.

The amended notice applicable to TA-W-55,352 is hereby issued as follows:

”All workers of BIC Corporation, BIC Consumer Products Manufacturing Co., Inc., BIC USA, Inc., Milford, Connecticut, who became totally or partially separated from employment on or after August 2, 2003, through September 9, 2006, are eligible to apply for adjustment assistance under Section 223 of the Trade Act of 1974, and are also eligible to apply for alternative trade adjustment assistance under Section 246 of the Trade Act of 1974.”

Signed at Washington, DC this 27th day of April 2005.
Linda G. Poole,
Certifying Officer, Division of Trade Adjustment Assistance.

[FR Doc. E5-2512 Filed 5-18-05; 8:45 am]

BILLING CODE 4510-30-P